ENVIRONMENTAL PROTECTION AGENCY

[FRL—9332-01-OA]

Notification of a Public Meeting of the Science Advisory Board Drinking Water Committee (DWC) Augmented for the Contaminant Candidate List (CCL) 5 Review Panel

AGENCY: Environmental Protection Agency (EPA).

ACTION: Notice.

SUMMARY: The Environmental Protection Agency (EPA) Science Advisory Board (SAB) Staff Office announces a public meeting of the Science Advisory Board Drinking Water Committee (DWC) Augmented for the Contaminant Candidate List (CCL) 5 Review Panel (DWC CCL 5 Review Panel). The DWC CCL 5 Review Panel will review EPA's Drinking Water Contaminant Candidate List 5 (CCL 5)—Draft and three associated support documents: Technical Support Document for the Draft Fifth Contaminant Candidate List (CCL 5)—Chemical Contaminants; Technical Support Document for the Draft Fifth Contaminant Candidate List (CCL 5)—Microbial Contaminants; and Draft CCL 5 Contaminant Information Sheets Technical Support Document.

DATES: The public meeting will be held on January 11, 2022, from 12:00 p.m.-5:00 p.m., February 16, 2022 from 12:00 p.m.-5:00 p.m., and February 18, 2022, from 12:00 p.m.-5:00 p.m.. All times listed are in Eastern Standard Time.

ADDRESSES: The meeting will be conducted virtually. Please refer to the SAB website at https://sab.epa.gov for information on how to attend the meeting.

FOR FURTHER INFORMATION CONTACT: Any member of the public who wants further information concerning this notice may contact Carolyn Kilgore, Designated Federal Officer (DFO), via telephone (202) 564-0230, or email at kilgore.carolyn@epa.gov. General information about the SAB, as well as any updates concerning the meetings announced in this notice can be found on the SAB website at https://sab.epa.gov.

SUPPLEMENTARY INFORMATION:

Background: The SAB was established pursuant to the Environmental Research, Development, and Demonstration Authorization Act (ERDDAA), codified at 42 U.S.C. 4365, to provide independent scientific and technical advice to the EPA Administrator on the scientific and technical basis for agency positions and regulations. The SAB is a Federal Advisory Committee chartered under the Federal Advisory Committee Act (FACA), 5 U.S.C., App. 2. The SAB will comply with the provisions of FACA and all appropriate SAB Staff Office procedural policies. Pursuant to FACA and EPA policy, notice is hereby given that the Science Advisory Board DWC CCL 5 Review Panel will hold a public meeting to review EPA's Drinking Water Contaminant Candidate List 5 (CCL 5)—Draft (86 FR 37948) and three associated support documents: Technical Support Document for the Draft Fifth Contaminant Candidate List (CCL 5)—Chemical Contaminants; Technical Support Document for the Draft Fifth Contaminant Candidate List (CCL 5)—Microbial Contaminants; and Draft CCL 5 Contaminant Information Sheets Technical Support Document. The CCL is one tool EPA uses to identify priority contaminants for future regulatory decision making and research needs and does not impose any requirements on any regulated entity.

The DWC CCL 5 Review Panel will meet on January 11, 2022 to receive a briefing from the EPA, discuss the charge to the SAB, and hear oral public comments. The Panel will meet on February 16, 2022 and February 18, 2022, to review EPA's Drinking Water Contaminant Candidate List 5 (CCL 5)—Draft (86 FR 37948) and associated support documents.

Technical Contact: Any technical questions concerning the EPA documents to be reviewed and chemical contaminants should be directed to Kesha Forrest, Office of Ground Water and Drinking Water, Standards and Risk Management Division, at forrest.kesha@epa.gov. Any technical questions concerning the EPA documents to be reviewed and microbial contaminants should be directed to Nicole Tucker, Office of Ground Water and Drinking Water, Standards and Risk Management Division, at tucker.nicole@epa.gov.

Availability of Meeting Materials: All meeting materials, including the agenda will be available on the SAB web page at https://sab.epa.gov.

Procedures for Providing Public Input: Public comment for consideration by EPA's federal advisory committees and panels has a different purpose from public comment provided to EPA program offices. Therefore, the process for submitting comments to a federal advisory committee is different from the process used to submit comments to an EPA program office. Federal advisory committees and panels, including scientific advisory committees, provide independent advice to the EPA. Members of the public can submit relevant comments pertaining to the committee's charge or meeting materials. Input from the public to the SAB will have the most impact if it provides specific scientific or technical information or analysis for the SAB to consider or if it relates to the clarity or accuracy of the technical information. Members of the public wishing to provide comment should follow the instruction below to submit comments.

Oral Statements: In general, individuals or groups requesting an oral presentation at a public meeting will be limited to three minutes. Each person making an oral statement should consider providing written comments as well as their oral statement so that the points presented orally can be expanded upon in writing. Persons interested in providing oral statements on January 11, 2021, should contact the DFO, in writing (preferably via email) at the contact information noted above by January 4, 2022, to be placed on the list of registered speakers.

Written Statements: Written statements will be accepted throughout the advisory process; however, for timely consideration by SAB members, statements should be submitted to the DFO by January 4, 2022, for consideration at the public meeting on January 11, 2022, February 16, 2022, and February 18, 2022. Written statements should be supplied to the DFO at the contact information above via email. Submitters are requested to provide a signed and unsigned version of each document because the SAB Staff Office does not publish documents with signatures on its websites. Members of the public should be aware that their personal contact information, if included in any written comments, may be posted to the SAB website. Copyrighted material will not be posted without explicit permission of the copyright holder.

Accessibility: For information on access or services for individuals with disabilities, please contact the DFO, at the contact information noted above, preferably at least ten days prior to the meetings, to give the EPA as much time as possible to process your request.

Thomas Brennan,
Director, EPA Science Advisory Board Staff Office.

[FR Doc. 2021-26470 Filed 12-6-21; 8:45 am]

BILLING CODE 6560-50-P